FEDERAL RESERVE SYSTEM
Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).
The notices are available for immediate inspection at the Federal Reserve Bank indicated. The notices also will be available for inspection at the office of the Board of Governors. Interested persons may express their views in writing to the Reserve Bank indicated for that notice or to the offices of the Board of Governors. Comments must be received not later than February 17, 2004.

A. Federal Reserve Bank of St. Louis (Randall C. Sumner, Vice President) 411 Locust Street, St. Louis, Missouri 63166-2034:

1. Amy Golden McCay, Little Rock, Arkansas; to retain voting shares of ACME Holding Company, Inc., and thereby indirectly retain voting shares of Allied Bank, both of Mulberry, Arkansas.

B. Federal Reserve Bank of Kansas City (James Hunter, Assistant Vice President) 925 Grand Avenue, Kansas City, Missouri 64198-0001:

1. James E. Thielke, Cleo Springs, Oklahoma, as trustee of the Jarrett K. Parker Revocable Trust; to acquire voting shares of Cleo Bancshares, Inc., Cleo Springs, Oklahoma, and thereby indirectly acquire voting shares of Cleo State Bank, both of Cleo Springs, Oklahoma.

2. James E. Thielke, Cleo Springs, Oklahoma, as trustee of the Jarrett K. Parker Revocable Trust; to acquire voting shares of Hazelton Bancshares, Inc., and thereby indirectly acquire voting shares of Farmers State Bank, both of Hazelton, Kansas.

3. James E. Thielke, Cleo Springs, Oklahoma, as trustee of the Jarrett K. Parker Revocable Trust; to acquire voting shares of Meno Banchsares, Inc., and thereby indirectly acquire voting shares of Meno Guaranty Bank, both of Meno, Oklahoma.

Board of Governors of the Federal Reserve System, January 27, 2004
Jennifer J. Johnson,
Secretary of the Board.

[FR Doc. 04-2013 Filed 1-29-04; 8:45 am]
BILLING CODE 6210-01-S